DEPARTMENT OF THE INTERIOR

Bureau of Indian Affairs

[DR.5B711.IA000815]

Indian Gaming

AGENCY: Bureau of Indian Affairs, Interior.

ACTION: Notice of Tribal-State Class III Gaming Compact taking effect.

SUMMARY: This notice publishes the Class III Amended and Restated Tribal-State Compact between the Viejas Band of Kumeyaay Indians ¹ and the State of California taking effect.

¹ The Tribe is identified as the Viejas (Baron Long) Group of Capitan Grande Band of Mission Indians of the Viejas Reservation in the Department's List of Indian Entities Recognized and Eligible to Receive Services from the United States Bureau of Indian Affairs, 79 FR 4748, 4749 (January 29, 2014).

DATES: Effective December 5, 2014.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. The Amended and Restated Tribal-State Compact (Compact) between the State of California (State) and the Viejas Band of Kumeyaay Indians (Tribe) modifies the revenue sharing requirements. The expiration date of the Compact was not extended and remains December 31, 2030. The Secretary took no action on the Compact within 45 days of its submission by the Tribe and the State. Therefore, the compact is considered to have been approved, but only to the extent that the Compact is consistent with IGRA. See 25 U.S.C. 2710(d)(8)(C).

Dated: December 1, 2014.
Kevin K. Washburn,
Assistant Secretary—Indian Affairs.

[FR Doc. 2014-28600 Filed 12-4-14; 8:45 am]

BILLING CODE 4310-4N-P